DEPARTMENT OF COMMERCE

National Oceanic and Atmospheric Administration

[RTID 0648-XA113]

North Pacific Fishery Management Council; Public Meeting

AGENCY: National Marine Fisheries Service (NMFS), National Oceanic and Atmospheric Administration (NOAA), Commerce.

ACTION: Notice of video conference.

SUMMARY: The North Pacific Fishery Management Council (Council) Bering Sea Fishery Ecosystem Plan Local Knowledge, Traditional Knowledge, and Subsistence Taskforce will meet via video conference on April 27, 2020 through April 28, 2020.

DATES: The meeting will be held on Monday, April 27, 2020 through Tuesday, April 28, 2020, from 8:30 a.m. to 5 p.m. Alaska Standard Time.

ADDRESSES: The meeting will be videoconference. Join online https://zoom.us/j/495093187.

Council address: North Pacific Fishery Management Council, 1007 W 3rd Ave., Anchorage, AK 99501-2252; telephone: (907) 271-2809. Instructions for attending the meeting via video conference are given under Supplementary Information, below.

FOR FURTHER INFORMATION CONTACT: Kate Haapala, Council staff; email: kate.haapala@noaa.gov. For technical support please contact Maria Davis, Council staff, email: maria.davis@noaa.gov.

SUPPLEMENTARY INFORMATION:

Agenda

Monday, April 27, 2020 to Tuesday, April 28, 2020

The agenda will include: (a) Introduction and review of the Council's February 2020 meeting; (b) progress towards meeting Taskforce objectives, including the identification of sources of LK, TK, and subsistence information; (c) discussion of the workplan; (d) discussion of the Norton Sound Red King Crab case study; and (e) other business.

You can attend the meeting online using a computer, tablet, or smart phone, entering the following link into any browser: https://zoom.us/j/495093187, or if you are working directly in the Zoom application, you may join the meeting using the ID: 495-093-187. Alternately, you can connect to the meeting by phone only, using one of the several telephone numbers posted at meetings.npfmc.org/meeting/details/1403.

The agenda is subject to change, and the latest version will be posted at meetings.npfmc.org/meeting/details/1403 prior to the meeting, along with meeting materials.

Public Comment

Public comment letters will be accepted and should be submitted electronically to meetings.npfmc.org/meeting/details/1403.

Special Accommodations

These meetings are accessible to people with disabilities. Requests for sign language interpretation or other auxiliary aids should be directed to Shannon Gleason at (907) 903-3107 at least 7 working days prior to the meeting date.

Authority: 16 U.S.C. 1801 et seq.

Dated: April 6, 2020.
Tracey L. Thompson,
Acting Deputy Director, Office of Sustainable Fisheries, National Marine Fisheries Service.

[FR Doc. 2020-07534 Filed 4-9-20; 8:45 am]

BILLING CODE 3510-22-P